DEPARTMENT OF THE INTERIOR

National Park Service

[NPS-WASO-NRNHL-10455; 2200-3200-665]

National Register of Historic Places; Notification of Pending Nominations and Related Actions

Nominations for the following properties being considered for listing or related actions in the National Register were received by the National Park Service before May 26, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by July 5, 2012. Before including your address, phone number, email address, or other personal identifying information in your comment, you should be aware that your entire comment—including your personal identifying information—may be made publicly available at any time. While you can ask us in your comment to withhold your personal identifying information from public review, we cannot guarantee that we will be able to do so.

Dated: May 31, 2012.
J. Paul Loether,
Chief, National Register of Historic Places/National Historic Landmarks Program.

CALIFORNIA

Humboldt County

Tishawnik, Address Restricted, Orleans, 12000397

Sierra County

Durgan Bridge, (Highway Bridges of California MPS) Nevada St., Downieville, 12000398

Hansen Bridge, (Highway Bridges of California MPS) E. River St. between Upper Main, & Pearl Sts., Downieville, 12000399

Hospital Bridge, (Highway Bridges of California MPS) Upper Main St. over Downie R., Downieville, 12000400

Jersey Bridge, (Highway Bridges of California MPS) CA 49 from Main to Commercial Sts., Downieville, 12000401

Solano County

Sacramento Northern Railway Historic District, 5848 CA 12, Suisun City, 12000402

IOWA

Plymouth County

Akron Opera House, (Footlights in Farm Country: Iowa Opera Houses MPS) 151 Reed St., Akron, 12000403

MASSACHUSETTS

Middlesex County

Central Square Historic District (Boundary Increase), Roughly 831 to 351-355 Massachusetts Ave., Cambridge, 12000404

NEW YORK

Columbia County

Copake Falls Methodist Episcopal Church, Miles Rd., Copake Falls, 12000405

Van Buren, Martin, National Historic Site (Boundary Increase), 1013 Old Post Rd., Kinderhook, 12000406

Onondaga County

Scottholm Tract Historic District, Roughly bounded by E. Genesee St., Scottholm Terrace, Meadowbrook Dr., & Bradford Pkwy., Syracuse, 12000407

Rockland County

Brookside, 406 N. Broadway, Upper Nyack, 12000408

VERMONT

Chittenden County

Mad River Glen Ski Area Historic District, McCullough Tpk., Fayston, 12000409

Windsor County

Terraces Historic District, 22-60 Maplewood Terr., 2-364 Fairview Terr., 12-249 Hillcrest Terr., 82, 176 Forest Hills Ave., Hartford, 12000410

[FR Doc. 2012-14975 Filed 6-19-12; 8:45 am]

BILLING CODE 4312-51-P